DEPARTMENT OF TRANSPORTATION

Federal Aviation Administration

14 CFR Part 39

[Docket No. FAA-2024-1892; Project Identifier MCAI-2024-00198-T; Amendment 39-22860; AD 2024-20-01]

RIN 2120-AA64

Airworthiness Directives; Airbus SAS Airplanes

AGENCY: Federal Aviation Administration (FAA), DOT.

ACTION: Final rule.

SUMMARY: The FAA is superseding Airworthiness Directive (AD) 2023-07-13 which applied to certain Airbus SAS Model A350-941 and -1041 airplanes. AD 2023-07-13 required repetitive detailed inspections of the lower attachment studs on the AFT galley complex and, depending on findings, replacement of the lower attachment studs. This AD was prompted by a determination that additional airplanes are affected, and that all affected parts must be replaced with serviceable parts. This AD continues to require the actions in AD 2023-07-13, adds airplanes to the applicability, and requires the replacement of all affected parts; as specified in European Union Aviation Safety Agency (EASA) AD, which is incorporated by reference. The FAA is issuing this AD to address the unsafe condition on these products.

DATES: This AD is effective November 29, 2024.

The Director of the Federal Register approved the incorporation by reference of a certain publication listed in this AD as of November 29, 2024.

ADDRESSES:

AD Docket: You may examine the AD docket at regulations.gov under Docket No. FAA-2024-1892; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For EASA material identified in this AD, contact EASA, Konrad-Adenauer-Ufer 3, 50668 Cologne, Germany; telephone +49 221 8999 000; email ADs@easa.europa.eu; website easa.europa.eu. You may find this material on the EASA website at ad.easa.europa.eu.

• You may view this material at the FAA, Airworthiness Products Section, Operational Safety Branch, 2200 South 216th St., Des Moines, WA. For information on the availability of this material at the FAA, call 206-231-3195. It is also available at regulations.gov under Docket No. FAA-2024-1892.

FOR FURTHER INFORMATION CONTACT: Dat Le, Aviation Safety Engineer, FAA, 1600 Stewart Avenue, Suite 410, Westbury, NY 11590; telephone 516-228-7300; email dat.v.le@faa.gov.

SUPPLEMENTARY INFORMATION:

Background

The FAA issued a notice of proposed rulemaking (NPRM) to amend 14 CFR part 39 to supersede AD 2023-07-13, Amendment 39-22415 (88 FR 31169, May 16, 2023) (AD 2023-07-13). AD 2023-07-13 applied to certain Airbus SAS Model A350-941 and -1041 airplanes. AD 2023-07-13 required repetitive detailed inspections of the lower attachment studs on the AFT galley complex for damage (i.e., stress marks, dents, bumps, corrosion, contamination, cracks, and scratches) and correct installation and, depending on findings, replacement of the lower attachment stud. The FAA issued AD 2023-07-13 to address broken lower attachment studs having Part Number (P/N) XP14-070-007800 on the AFT galley complex.

The NPRM published in the Federal Register on July 23, 2024 (89 FR 59709). The NPRM was prompted by AD 2024-0078, dated March 20, 2024, issued by EASA, which is the Technical Agent for the Member States of the European Union (EASA AD 2024-0078) (also referred to as the MCAI). The MCAI states that additional airplanes are affected, and that all lower attachment studs having P/N XP14-070-007800, on the AFT galley complex must be replaced. Broken lower attachment studs on the AFT galley complex, if not addressed, could lead to galley detachment, resulting in injury to airplane occupants and reduced capacity for emergency evacuation of the airplane.

In the NPRM, the FAA proposed to continue to require the actions in AD 2023-07-13, add airplanes to the applicability, and require the replacement of all affected parts, as specified in EASA AD 2024-0078. The FAA is issuing this AD to address the unsafe condition on these products.

You may examine the MCAI in the AD docket at regulations.gov under Docket No. FAA-2024-1892.

Discussion of Final Airworthiness Directive

Comments

The FAA received no comments on the NPRM or on the determination of the cost to the public.

Conclusion

This product has been approved by the aviation authority of another country and is approved for operation in the United States. Pursuant to the FAA's bilateral agreement with this State of Design Authority, it has notified the FAA of the unsafe condition described in the MCAI referenced above. The FAA reviewed the relevant data and determined that air safety requires adopting this AD as proposed. Accordingly, the FAA is issuing this AD to address the unsafe condition on this product. Except for minor editorial changes, this AD is adopted as proposed in the NPRM. None of the changes will increase the economic burden on any operator.

Material Incorporated by Reference Under 1 CFR Part 51

EASA AD 2024-0078 specifies repetitive detailed inspections for damaged and incorrectly installed lower attachment studs having P/N XP14-070-007800 on the AFT galley complex and, depending on findings, replacement of the lower attachment studs, and eventual replacement of all affected lower attachment studs having P/N XP14-070-007800. EASA AD 2024-0078 specifies that replacement of all lower attachment studs having P/N XP14-070-007800 on all affected AFT galleys constitutes a terminating action for the repetitive detailed inspections.

This material is reasonably available because the interested parties have access to it through their normal course of business or by the means identified in the ADDRESSES section.

Costs of Compliance

The FAA estimates that this AD affects 13 airplanes of U.S. registry. The FAA estimates the following costs to comply with this AD:

Action | Labor cost | Parts cost | Cost per product | Cost on U.S. operators
Retained actions from AD 2023-07-13 | 2 work-hours × $85 per hour = $170 | $0 | $170 | $2,210
New actions | 7 work-hours × $85 per hour = $595 | 95 | 690 | 8,970

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2023-07-13, Amendment 39-22415 (88 FR 31169, May 16, 2023); and

b. Adding the following new AD:

2024-20-01 Airbus SAS: Amendment 39-22860; Docket No. FAA-2024-1892; Project Identifier MCAI-2024-00198-T.

(a) Effective Date

This airworthiness directive (AD) is effective November 29, 2024.

(b) Affected ADs

This AD replaces AD 2023-07-13, Amendment 39-22415 (88 FR 31169, May 16, 2023) (AD 2023-07-13).

(c) Applicability

This AD applies to Airbus SAS Model A350-941 and -1041 airplanes, certificated in any category, as identified in European Union Aviation Safety Agency (EASA) AD 2024-0078, dated March 20, 2024 (EASA AD 2024-0078).

(d) Subject

Air Transport Association (ATA) of America Code 25, Equipment/furnishings.

(e) Unsafe Condition

This AD was prompted by reports of broken lower attachment studs having P/N XP14-070-007800 on the AFT galley complex. The FAA is issuing this AD to address broken lower attachment studs having XP14-070-007800 on the AFT galley complex. The unsafe condition, if not addressed, could lead to galley module detachment, resulting in injury to airplane occupants and reduced capacity for emergency evacuation of the airplane.

(f) Compliance

Comply with this AD within the compliance times specified, unless already done.

(g) Requirements

Except as specified in paragraph (h) of this AD: Comply with all required actions and compliance times specified in, and in accordance with, EASA AD 2024-0078.

(h) Exceptions to EASA AD 2024-0078

(1) Where EASA AD 2024-0078 refers to “04 October 2022 [the effective date of EASA AD 2022-0196],” this AD requires using June 20, 2023 (the effective date of AD 2023-07-13).

(2) Where EASA AD 2024-0078 refers to its effective date, this AD requires using the effective date of this AD.

(3) Where paragraphs (1), (2), (3), and (4) of EASA AD 2024-0078 specify actions “in accordance with approved instructions issued by Airbus DOA,” this AD requires replacing that text with “in accordance with approved instructions issued by the Manager, Large Aircraft Section, International Validation Branch, FAA; or EASA; or Airbus SAS's EASA Design Organization Approval (DOA). If approved by the DOA, the approval must include the DOA-authorized signature.”

(4) This AD does not adopt the “Remarks” section of EASA AD 2024-0078.

(i) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to the address identified in paragraph (j) of this AD. Information may be emailed to: AMOC@faa.gov.

(i) Before using any approved AMOC, notify your appropriate principal inspector, or lacking a principal inspector, the manager of the responsible Flight Standards Office.

(ii) AMOCs approved previously for AD 2023-07-13 are approved as AMOCs for the corresponding provisions of EASA AD 2024-0078 that are required by paragraph (g) of this AD.

(2) Contacting the Manufacturer: For any requirement in this AD to obtain instructions from a manufacturer, the instructions must be accomplished using a method approved by the Manager, International Validation Branch, FAA; or EASA; or Airbus SAS's EASA DOA. If approved by the DOA, the approval must include the DOA-authorized signature.

(3) Required for Compliance (RC): Except as required by paragraph (i)(2) of this AD, if any material contains paragraphs that are labeled as RC, the instructions in RC paragraphs, including subparagraphs under an RC paragraph, must be done to comply with this AD; any paragraphs, including subparagraphs under those paragraphs, that are not identified as RC are recommended. The instructions in paragraphs, including subparagraphs under those paragraphs, not identified as RC may be deviated from using accepted methods in accordance with the operator's maintenance or inspection program without obtaining approval of an AMOC, provided the instructions identified as RC can be done and the airplane can be put back in an airworthy condition. Any substitutions or changes to instructions identified as RC require approval of an AMOC.

(j) Additional Information

For more information about this AD, contact Dat Le, Aviation Safety Engineer, FAA, 1600 Stewart Avenue, Suite 410, Westbury, NY 11590; telephone 516-228-7300; email dat.v.le@faa.gov.

(k) Material Incorporated by Reference

(1) The Director of the Federal Register approved the incorporation by reference (IBR) of the material listed in this paragraph under 5 U.S.C. 552(a) and 1 CFR part 51.

(2) You must use this material as applicable to do the actions required by this AD, unless this AD specifies otherwise.

(i) European Union Aviation Safety Agency (EASA) AD 2024-0078, dated March 20, 2024.

(ii) [Reserved]

(3) For EASA AD 2024-0078, contact EASA, Konrad-Adenauer-Ufer 3, 50668 Cologne, Germany; telephone +49 221 8999 000; email ADs@easa.europa.eu; website easa.europa.eu. You may find this EASA AD on the EASA website ad.easa.europa.eu.

(4) You may view this material at the FAA, Airworthiness Products Section, Operational Safety Branch, 2200 South 216th Street, Des Moines, WA. For information on the availability of this material at the FAA, call 206-231-3195.

(5) You may view this material at the National Archives and Records Administration (NARA). For information on the availability of this material at NARA, visit www.archives.gov/federal-register/cfr/ibr-locations or email fr.inspection@nara.gov.

Issued on September 23, 2024.
Peter A. White,
Deputy Director, Integrated Certificate Management Division, Aircraft Certification Service.

[FR Doc. 2024-24465 Filed 10-23-24; 8:45 am]

BILLING CODE 4910-13-P